DEPARTMENT OF HEALTH AND HUMAN SERVICES

Administration for Children and Families

President's Committee for People With Intellectual Disabilities; Notice of Meeting

AGENCY: President's Committee for People with Intellectual Disabilities (PCPID), Department of Health And Human Services.

ACTION: Notice of quarterly meeting.

DATES: Thursday, September 14, 2006, from 9 a.m. to 5:30 p.m., and Friday, September 15, 2006, from 9 a.m. to 5 p.m. The entire meeting of PCPID will be open to the public.

ADDRESSES: The meeting will be held in Room 800 of the Hubert H. Humphrey building, 200 Independence Ave., SW., Washington, DC 20201. Individuals who will need accommodations for a disability in order to attend the meeting (e.g., interpreting services, assistive listening devices, materials in alternative format such as large print or Braille) should notify Sally Atwater at 202-619-0634 no later than September 7, 2006. We will attempt to meet requests made after that date, but cannot guarantee availability. All meeting sites are barrier free.

Agenda: Day One—The new Committee members will take the oath of office, be sworn in as members of the President's Committee for People with Intellectual Disabilities and receive guidance on ethics regulations and the Federal Advisory Committee Act (FACA). Committee members will also hear from the various ex officio members regarding the programs and services provided by their respective Federal agencies.

Agenda: Day Two—The Committee will receive a briefing on the New Freedom Initiative and then begin discussion to set Committee priorities for the coming year.

FOR FURTHER INFORMATION CONTACT: Sally D. Atwater, Executive Director, President's Committee for People with Intellectual Disabilities, The Aerospace Center, Suite 701, 370 L'Enfant Promenade, SW., Washington, DC 20447. Telephone: 202-619-0634, fax: 202-205-9591. E-mail: satwater@acf.hhs.gov.

SUPPLEMENTARY INFORMATION: PCPID acts in an advisory capacity to the President and the Secretary of Health and Human Services on a broad range of topics relating to programs, services and supports for persons with intellectual disabilities. The Committee, by Executive Order, is responsible for evaluating the adequacy of current practices in programs, services and supports for persons with intellectual disabilities, and for reviewing legislative proposals that impact the quality of life experienced by citizens with intellectual disabilities and their families.

Dated: August 14, 2006.
Sally D. Atwater,
Executive Director, President's Committee for People with Intellectual Disabilities.

[FR Doc. E6-13996 Filed 8-23-06; 8:45 am]

BILLING CODE 4184-01-P